DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (OFAC) is publishing the names of the five individuals and two entities whose property and interests in property have been unblocked pursuant to Executive Order 12978 of October 21, 1995, “Blocking Assets and Prohibiting Transactions With Significant Narcotics Traffickers”.

DATES: The unblocking and removal from the list of Specially Designated Nationals and Blocked Persons (SDN List) of the five individuals and two entities identified in this notice whose property and interests in property were blocked pursuant to Executive Order 12978 of October 21, 1995, is effective on October 21, 2014.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On October 21, 2014, the Director of OFAC removed from the SDN List the five individuals and two entities listed below, whose property and interests in property were blocked pursuant to the Order:

Individuals

1. CASTANO CASTANO, Consuelo, Carrera 20 No. 66-34, Bogota, Colombia; c/o TODOBOLSAS Y COLSOBRES, Bogota, Colombia; DOB 25 Feb 1951; POB Pereira, Risaralda, Colombia; Cedula No. 29493435 (Colombia); Passport 24943435 (Colombia) (individual) [SDNT].

2. NUMA SANJUAN, Antonieta, Avenida 0 No. 10-38, Cucuta, Norte de Santander, Colombia; c/o INTERCONTINENTAL DE AVIACION S.A., Bogota, Colombia; c/o ACCIRENT S.A., Bogota, Colombia; DOB 20 Oct 1962; POB Ocana, Norte de Santander, Colombia; Cedula No. 60291819 (Colombia); Passport AE227693 (Colombia); alt. Passport AC227693 (Colombia) (individual) [SDNT].

3. SANCHEZ RUA, Rafael Angel, Calle 17 Bis. No. 2N-74, Cartago, Valle, Colombia; Finca El Encanto, Anserma, Colombia; Finca La Fortaleza, Anserma, Colombia; Finca La Perlita, Anserma, Colombia; Finca La Quichita, Anserma, Colombia; Finca Quiebra de Italia, Anserma, Colombia; DOB 22 Aug 1966; POB Ansermanuevo, Valle, Colombia; Cedula No. 16219873 (Colombia); Passport AF866705 (Colombia) (individual) [SDNT] (Linked To: MOTEL MOMENTOS E.U.; Linked To: ALMACEN Y COMPRAVENTA LOS 3 OROS).

4. VALENCIA TRUJILLO, Adela (a.k.a. VALENCIA DE MEDINA, Adela), Carrera 4 No. 11-45 Ofc. 503, Cali, Colombia; c/o CREDISA S.A., Cali, Colombia; c/o COMPANIA DE FOMENTO MERCANTIL S.A., Cali, Colombia; c/o UNIDAS S.A., Cali, Colombia; DOB 20 Oct 1954; POB Cali, Valle, Colombia; Cedula No. 31277251 (Colombia); Passport 31277251 (Colombia) (individual) [SDNT].

5. VALENCIA TRUJILLO, Carmen Emilia (a.k.a. VALENCIA DE VICTORIA, Carmen Emilia), Carrera 37 No. 8-26, Cali, Colombia; c/o CREDISA S.A., Cali, Colombia; c/o UNIDAS S.A., Cali, Colombia; DOB 08 Apr 1952; POB Cali, Valle, Colombia; Cedula No. 31244070 (Colombia); Passport 31244070 (Colombia) (individual) [SDNT].

Entities

1. ALMACEN Y COMPRAVENTA LOS 3 OROS, Carrera 7 No. 11-60, Cartago, Valle, Colombia; NIT # 16219873-3 (Colombia) [SDNT].

2. MOTEL MOMENTOS E.U., Carrera 22 No. 8-71, Cartago, Valle, Colombia; NIT # 900089381-9 (Colombia) [SDNT].

Dated: October 21, 2014.
Adam J. Szubin.
Director, Office of Foreign Assets Control.

[FR Doc. 2014-25606 Filed 10-27-14; 8:45 am]

BILLING CODE 4810-AL-P